DEPARTMENT OF HOMELAND SECURITY

Coast Guard

33 CFR Part 165

[Docket No. USCG-2019-0239]

Recurring Safety Zone; PUSH Beaver County, Beaver, PA

AGENCY: Coast Guard, DHS.

ACTION: Notice of enforcement of regulation.

SUMMARY: The Coast Guard will enforce the annual safety zone for the PUSH Beaver County Fireworks, to provide for the safety of persons, vessels, and the marine environment on the navigable waters of Ohio River during this event. Our regulation for marine events within the Eighth Coast Guard District identifies the regulated area for this event in Beaver, PA. During the enforcement period, entry into this zone is prohibited unless authorized by the Captain of the Port Marine Safety Unit Pittsburgh or a designated representative.

DATES: The regulations in 33 CFR 165.801, Table 1, Line 20 will be enforced from 8 p.m. through 10:30 p.m. on June 22, 2019, unless the firework display is postponed because of adverse weather, in which case, this rule will be enforced on June 23, 2019.

FOR FURTHER INFORMATION CONTACT: If you have questions about this notice of enforcement, call or email Petty Officer Jennifer Haggins, Marine Safety Unit Pittsburgh, U.S. Coast Guard; telephone 412-221-0807, email Jennifer.L.Haggins@uscg.mil.

SUPPLEMENTARY INFORMATION: The Coast Guard will enforce the annual safety zone on the Ohio River for the PUSH Beaver County, in 33 CFR 165.801, Table 1, Line 20 from 8:00 p.m. through 10:30 p.m. on June 22, 2019, unless the firework display is postponed because of adverse weather, in which case, this rule will be enforced on June 23, 2019. This action is being taken to provide for the safety of persons, vessels, and the marine environment on the navigable waters of the Ohio River during this event. Our regulation for marine events within the Eighth Coast Guard District, § 165.801, Table 1, Line 20, specifies the location of the safety zone for the PUSH Beaver County, which covers a one half mile stretch of the Ohio River. Entry into the safety zone is prohibited unless authorized by the Captain of the Port Marine Safety Unit Pittsburgh (COTP) or a designated representative. Persons or vessels desiring to enter into or pass through the area must request permission from the COTP or a designated representative. They can be reached on VHF FM channel 16. If permission is granted, all persons and vessel shall comply with the instructions of the COTP or designated representative.

In addition to this notice of enforcement in the Federal Register, the COTP or a designated representative will inform the public through Broadcast Notices to Mariners (BNMs), Local Notices to Mariners (LNMs), Marine Safety Information Bulletins (MSIBs), and/or through other means of public notice as appropriate at least 24 hours in advance of enforcement.

Dated: May 20, 2019.
A.W. Demo,
Commander, U.S. Coast Guard, Captain of the Port Marine Safety Unit Pittsburgh.

[FR Doc. 2019-10771 Filed 5-22-19; 8:45 am]

BILLING CODE 9110-04-P